DEPARTMENT OF THE TREASURY

United States Mint

Notification of Citizens Coinage Advisory Committee September 22-23, 2020, Public Meeting; Correction

ACTION: Notice; correction.

SUMMARY: The United States Mint published a notice titled “Notification of Citizens Coinage Advisory Committee September 22-23, 2020, Public Meeting” in the Federal Register on August 24, 2020. The notice contained an error. This document corrects the error.

FOR FURTHER INFORMATION CONTACT: Jennifer Warren; United States Mint Liaison to the CCAC; 801 Ninth Street NW, Washington, DC 20220; or call 202-354-7208.

SUPPLEMENTARY INFORMATION:

Correction

In the Federal Register of August 24, 2020, in FR Doc. 2020-18447, the notice incorrectly stated the title of one of the coin programs. The correct title is National Law Enforcement Museum Commemorative Coins.

Eric Anderson,
Executive Secretary, United States Mint.

[FR Doc. 2020-19570 Filed 9-3-20; 8:45 am]

BILLING CODE P